DEPARTMENT OF HOMELAND SECURITY

Coast Guard

33 CFR Part 117

[Docket Number USCG-2011-0761]

RIN 1625-AA09

Drawbridge Operation Regulation; Illinois Waterway, Joliet, IL

AGENCY: Coast Guard, DHS.

ACTION: Notice of temporary deviation from regulations.

SUMMARY: The Commander, Eighth Coast Guard District, has issued a temporary deviation from the regulation governing the operation of the Elgin Joliet and Eastern Railroad Drawbridge, across the Illinois Waterway, mile 290.1, at Joliet, Illinois. The deviation is necessary to allow the replacement of the existing bridge miter rail joints and installation of lift span alignment guides to ensure precise seating. This deviation allows the bridge to be maintained in the closed-to-navigation position for ten hours.

DATES: This deviation is effective from 8 a.m. to 6 p.m. on August 30, 2011.

ADDRESSES: Documents mentioned in this preamble as being available in the docket are part of docket USCG-2011-0761 and are available online by going to http://www.regulations.gov, inserting USCG-2011-0761 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FUTHER INFORMATION CONTACT: If you have questions on this rule, call or email Eric A. Washburn, Bridge Administrator, Western Rivers, Coast Guard; telephone (314) 269-2378, e-mail Eric.Washburn@uscg.mil. If you have questions on viewing the docket, call Renee V. Wright, Program Manager, Docket Operations, telephone (202) 366-9826.

SUPPLEMENTARY INFORMATION: The Canadian National Railway requested a temporary deviation for the Elgin Joliet and Eastern Railroad Drawbridge, across the Illinois Waterway, mile 290.1, at Joliet, Illinois to remain in the closed-to-navigation position for ten hours while repair work is done on the drawbridge. The Elgin Joliet and Eastern Railroad Drawbridge currently operates in accordance with 33 CFR 117.393(d), which states that the drawspan is normally maintained in the fully open to navigation position and the drawbridge is operated by remote operator located at the Elgin, Joliet & Eastern offices in East Joliet, Illinois.

There are no alternate routes for vessels transiting this section of the Illinois Waterway.

The Elgin Joliet and Eastern Railroad Drawbridge, in the closed-to-navigation position, provides a vertical clearance of 24.6 feet above normal pool. Navigation on the waterway consists primarily of commercial tows and recreational watercraft. This temporary deviation has been coordinated with waterway users. No objections were received.

In accordance with 33 CFR 117.35(e), the drawbridge must return to its regular operating schedule immediately at the end of the designated time period. This deviation from the operating regulations is authorized under 33 CFR 117.35.

Dated: August 2, 2011.
Eric A. Washburn,
Bridge Administrator, Western Rivers.

[FR Doc. 2011-21456 Filed 8-22-11; 8:45 am]

BILLING CODE 9110-04-P